DEPARTMENT OF STATE

22 CFR Part 42

[Public Notice 3505]

Immigrant Visas; Change in the Schedule of Fees for Consular Service

AGENCY: Department of State.

ACTION: Final Rule, with a request for comments.

SUMMARY: The Department of State is amending the immigrant visa regulations to reference a change in the Schedule of Fees for Consular Services which added a fee under Item 61 for assistance in the preparation of a required Affidavit of Support.

DATES: Effective January 1, 2001. Comments must be submitted by February 12, 2001.

ADDRESSES: Interested persons are invited to submit comments in duplicate to the Chief, Legislation and Regulations Division, Visa Services, Department of State, 20520-0106 or e-mail odomhe@state.gov.

FOR FURTHER INFORMATION CONTACT: H. Edward Odom, Chief, Legislation and Regulations Division, Visa Services, Department of State, Washington, D.C. 20520-0106, (202) 663-1204, e-mail odomhe@state.gov, or fax at (202) 663-3898.

SUPPLEMENTARY INFORMATION: On March 13, 2000, the Department of State published a Proposed Rule (65 FR 13253), establishing a fee of $50.00 for the review of, and assistance rendered in connection with, the proper preparation of a required Affidavit of Support. Those services will be rendered in the United States at the National Visa Center and through a call center available to all affiants. That rule was made final on September 7, 2000, (65 FR 54148-54150).

This rule amends the immigrant visa regulation pertaining to the Affidavit of Support (22 CFR 40.41(b)), with respect to applicants from certain designated posts, to require the payment of that fee prior to the consular officer's assessment of the sufficiency of the affidavit. The Deputy Assistant Secretary for Visa Services shall designate such posts by public notice from time to time, until it becomes applicable worldwide.

Regulatory Analysis and Notices

Administrative Procedure Act

The Department is publishing this rule as an final rule, with a 60-day provision for post-promulgation public comments, based on the “good cause” exceptions set forth at 5 U.S.C. 553(b)(3)(B) and 553(d)(3). The fee under reference has been the subject of both a proposed and a final rule, which will be effective on the same date as this rule. The imposition of such a fee is authorized by law.

Regulatory Flexibility Act

Pursuant to § 605 of the Regulatory Flexibility Act, the Department has assessed the potential impact of this rule, and the Assistant Secretary for Consular Affairs hereby certifies that is not expected to have a significant economic impact on a substantial number of small entities.

Unfunded Mandates Reform Act of 1995

This rule will not result in the expenditure by State, local and tribal governments, in the aggregate, or by the private sector, of $100 million in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review, and the Office of Management and Budget has waived its review process under section (6)(a)(3)(A).

Executive Order 131332

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 40

Aliens, Immigrants, Nonimmigrants, Visas, Ineligibilities

PART 40—REGULATIONS PERTAINING TO BOTH NONIMMIGRANTS AND IMMIGRANTS UNDER THE IMMIGRATION AND NATIONALITY ACT, AS AMENDED

1. The authority citation for part 40 is as follows:

Authority: 8 U.S.C. 1104

2. Revise § 40.41(b) to read as follows:

§ 40.41 Public Charge

* * * * *

(b) Affidavit of support. Any alien seeking an immigrant visa under INA 201(b)(2), 203(a), or 203(b), based upon a petition filed by a relative of the alien (or in the case of a petition filed under INA 203(b) by an entity in which a relative has a significant ownership interest), shall be required to present to the consular officer an affidavit of support (AOS) on a form that complies with terms and conditions established by the Attorney General. Petitioners for applicants at a post designated by the Deputy Assistant Secretary for Visa Services for initial review of and assistance with such an AOS will be charged a fee for such review and assistance pursuant to Item 61 of the Schedule of Fees for Consular Services (22 CFR 22.1).

* * * * *

Dated: November 29, 2000.
Maura Harty,
Acting Assistant Secretary for Consular Affairs.

[FR Doc. 00-31742 Filed 12-13-00; 8:45 am]

BILLING CODE 4710-06-P